DEPARTMENT OF THE INTERIOR

Fish and Wildlife Service

[FWS-R5-ES-2012-0059; 50120-1112-0000-F2]

Final Environmental Impact Statement, Habitat Conservation Plan, and Implementing Agreement; Beech Ridge Wind Power Project, Greenbrier and Nicholas Counties, West Virginia

AGENCY: Fish and Wildlife Service, Interior.

ACTION: Notice of availability: final environmental impact statement, habitat conservation plan, and implementing agreement.

SUMMARY: Under the National Environmental Policy Act (NEPA), the U.S. Fish and Wildlife Service (Service) is advising the public of the availability of a final Environmental Impact Statement (EIS) associated with an application received from Beech Ridge Energy, LLC and Beech Ridge Energy II, LLC (collectively referred to as Beech Ridge Energy, applicant), for an Incidental Take Permit (ITP) under the Endangered Species Act of 1973, as amended (ESA). We also announce the availability of the Beech Ridge Energy Habitat Conservation Plan (HCP), prepared in accordance with the ESA, and an Implementing Agreement (IA), part of its incidental take permit application. If issued, the permit would authorize incidental take of the federally listed endangered Indiana bat (Myotis sodalis) and Virginia big-eared bat (Corynorhinus townsendii virginianus) from construction, operation, maintenance, and decommissioning of the Beech Ridge Wind Power Project. Beech Ridge Energy is requesting a 25-year permit term.

DATES: The Service's decision on issuance of the permit will occur no sooner than 30 days after the publication of the Environmental Protection Agency notice of the final EIS in the Federal Register and will be documented in a Record of Decision.

ADDRESSES: Document availability: You may obtain copies of the documents on the Web site at: http://www.regulations.gov at Docket Number FWS-R5-ES-2012-0059, or by any of the methods described in Availability of Documents (under SUPPLEMENTARY INFORMATION).

FOR FURTHER INFORMATION CONTACT: Ms. Laura Hill, Assistant Field Supervisor, West Virginia Field Office, 694 Beverly Pike, Elkins, WV 26241, telephone 304-636-6586, extension 18.

SUPPLEMENTARY INFORMATION: We received an application from Beech Ridge Energy for an ITP for the operation and maintenance of 67 existing turbines in the project area; the construction, operation, and maintenance of up to 33 additional turbines and associated infrastructure in the project area; the implementation of the HCP during the life of the permit; and the decommissioning of the entire 100-turbine project and associated infrastructure at the end of its operational life. If approved, the permit would be for a 25-year period and would authorize incidental take of the endangered Indiana bat (Myotis sodalis) and Virginia big-eared bat (Corynorhinus townsendii virginianus) (covered species). A conservation program to minimize and mitigate for the impacts of the incidental take would be implemented by Beech Ridge Energy as described in the final Beech Ridge Wind Energy Project HCP. To comply with the NEPA (42 U.S.C. 4321 et seq.), we prepared an EIS that describes the proposed action and possible alternatives and analyzes the effects of alternatives on the human environment.

Availability of Documents

The final HCP and final EIS are available on the West Virginia Field Office's Web site at: http://www.fws.gov/westvirginiafieldoffice/beech_ridge_wind_power.html, or at: http://www.regulations.gov under Docket Number FWS-R5-ES-2012-0059. Copies of the final HCP and final EIS will also be available for public review during regular business hours at the West Virginia Field Office, 694 Beverly Pike, Elkins, WV 26241. In addition, paper copies of the final HCP and final EIS may be viewed at the following public libraries: (1) Greenbrier County Public Library, 152 Robert W. McCormick Drive, Lewisburg, West Virginia; (2) Kanawha County Public Library, 123 Capitol Street, Charleston, West Virginia; and (3) Rupert Public Library, 602 Nicholas Street, Rupert, West Virginia. Those who do not have access to the Web site or cannot visit our office or local libraries can request CD-ROM copies of the documents by telephone at 304-636-6586, or by letter to the West Virginia Field Office (see the address under FOR FURTHER INFORMATION CONTACT).

National Environmental Policy Act

We formally initiated an environmental review of the project through publication of a notice of intent to prepare an EIS in the Federal Register on July 22, 2010 (75 FR 42767). That notice also announced a public scoping period, during which we invited interested parties to provide written comments expressing their issues or concerns related to the proposal and to attend a public scoping meeting held in Rupert, West Virginia. Based on public scoping comments, we prepared a draft EIS for the proposed action and made it available for public review on August 24, 2012 (77 FR 51554). Public comments were accepted until October 23, 2012. Based on public comments on the draft EIS, we prepared responses to public comments and a final EIS.

Next Steps

We will evaluate the permit application, associated documents, and public comments in reaching a final decision on whether the application meets the requirements of section 10(a) of the ESA (16 U.S.C. 1531 et seq.). We also will evaluate whether issuance of a section 10(a)(1)(B) permit would comply with section 7 of the ESA by conducting an intra-Service section 7 consultation. We will use the results of this consultation, in combination with the above findings, in our final analysis to determine whether to issue a permit. If the requirements are met, we will issue the permit to the applicant. We will issue a Record of Decision and issue or deny the permit no sooner than 30 days after publication of the notice of availability of the final EIS.

Authority

We provide this notice under section 10(c) of the ESA (16 U.S.C. 1531, 1539(c)) and its implementing regulations (50 CFR 17.22), NEPA, (42 U.S.C. 4321 et seq.) and its implementing regulations (40 CFR 1506.6; 43 CFR Part 46), and section 106 of the NHPA (16 U.S.C. 470, 470f) and its implementing regulations (36 CFR Part 800).

Dated: August 16, 2013.
Paul R. Phifer,
Assistant Regional Director, Ecological Services, Northeast Region.

[FR Doc. 2013-22204 Filed 9-12-13; 8:45 am]

BILLING CODE 4310-55-P